DEPARTMENT OF THE INTERIOR

Fish and Wildlife Service

Meeting of the Alaska Migratory Bird Co-management Council

AGENCY: Fish and Wildlife Service, Interior.

ACTION: Notice of meeting.

SUMMARY: The Alaska Migratory Bird Co-management Council has scheduled a public meeting to discuss financial needs and sources for funding the operation of the Council and the regional management bodies.

DATES: The Co-management Council will meet June 26, 2001.

ADDRESSES: The meeting will be conducted at the Hawthorn Suites Hotel at 1110 W. 8th Avenue in Anchorage, Alaska.

FOR FURTHER INFORMATION CONTACT: For additional information call Bob Stevens at 907/786-3499. Individuals with a disability who may need special accommodations in order to participate in the public comment portion of the meeting should call the above number.

SUPPLEMENTARY INFORMATION: The U.S. Fish and Wildlife Service formed the Alaska Migratory Bird Co-Management Council, which includes Native, State, and Federal representatives as equals, by means of a Notice of Decision published in the Federal Register, 65 FR 16405-16409, March 28, 2000. The amended Migratory Bird Treaty with Canada required the formation of such a management body. The Co-management Council will make recommendations for regulations for spring/summer subsistence harvesting of migratory birds in Alaska. In addition the Co-management Council will make recommendations regarding population and harvest monitoring, law enforcement policies, habitat protection, research and use of traditional knowledge, and education programs.

The meeting of the Co-management Council will begin at 8:30 a.m. on Tuesday, June 26, 2001. The session will end no later than 5 p.m. that day. The primary agenda item will be a discussion of funding alternatives for the operation of the Co-management Council and the regional management bodies that provide recommendations to the Co-management Council. The public is invited to attend. The Co-management Council will provide opportunities for public comment on agenda items at the end of the morning session and at the end of the afternoon session. Additional opportunities may be provided at the discretion of the Co-management Council. Agendas will be available at the door.

Dated: May 23, 2001.
David B. Allen,
Regional Director, Anchorage, Alaska.

[FR Doc. 01-13936 Filed 6-1-01; 8:45 am]

BILLING CODE 4310-55-P